DEPARTMENT OF HOMELAND SECURITY

Coast Guard

33 CFR Part 165

[Docket Number USCG-2014-1075]

RIN 1625-AA87

Security Zone, U.S. Open Golf Championship, South Puget Sound; University Place, WA

AGENCY: Coast Guard, DHS.

ACTION: Temporary final rule.

SUMMARY: The Coast Guard is establishing a temporary security zone for the U.S. Open Golf Championship at Chambers Bay Golf Course in South Puget Sound, University Place, WA, from June 14, 2015 through June 22, 2015. This action is necessary to ensure the safety and security of participants, spectators, and event officials at the U.S. Open Golf Championship, and will do so by prohibiting any person or vessel from entering or remaining in the security zone unless authorized by the Captain of the Port or his Designated Representative.

DATES: This rule is effective from June 14, 2015 through June 22, 2015.

ADDRESSES: Documents mentioned in this preamble are part of docket [USCG-2014-1075]. To view documents mentioned in this preamble as being available in the docket, go to http://www.regulations.gov, and use “USCG-2014-1075” as your search term. Click on the link for this rulemaking and follow the instructions on that Web site for viewing documents in the docket. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Petty Officer Ryan Griffin, Waterways Management Division, Coast Guard Sector Puget Sound, telephone (206) 217-6045 or email SectorPugetSoundWWM@uscg.mil. If you have questions on viewing or submitting material to the docket, call Cheryl Collins, Program Manager, Docket Operations, telephone (202) 366-9826.

SUPPLEMENTARY INFORMATION:

Table of Acronyms

COTP Captain of the Port

DHS Department of Homeland Security

FR Federal Register

NPRM Notice of Proposed Rulemaking

A. Regulatory History and Information

The Pierce County Sheriff Department requested that the Coast Guard establish a temporary security zone to assist in the security and safety of the 65,000 potential attendees of the U.S Open Golf Championship event, set to take place at Chambers Bay Golf Course in South Puget Sound, University Place, WA, from June 14, 2015 through June 22, 2015. On February 11, 2015, the Coast Guard proposed to establish a temporary security zone in connection with this event by publishing a notice of proposed rulemaking (NPRM) entitled, “Security Zone, U.S. Open Golf Championship, South Puget Sound; University Place, WA” in the Federal Register (80 FR 7553). The Coast Guard received no comments in response to the NPRM, and received no requests for a public meeting.

B. Basis and Purpose

The legal basis for the proposed rule is 33 U.S.C. 1231; 50 U.S.C. 191; 33 CFR 1.05-1, 6.04-1, 6.04-6, and 160.5; and Department of Homeland Security Delegation No. 0170.1, which collectively authorize the Coast Guard to establish security zones.

The Chambers Bay Golf Course, located in the city of University Place, WA and the County of Pierce, will be the host site for the U.S. Golf Association 115th Annual U.S. Open Golf Championship from June 15, 2015 through June 21, 2015. This event will have a daily attendance of approximately 65,000 people and receives international press including multiple days of live television coverage. Due to the high number of general public in attendance and press coverage, the U.S. Open Golf Championship qualifies as a significant special event that requires a security zone. Based on past incursions at similar events at Chambers Bay Golf Course, this security zone is necessary for the size detailed in the regulation section below, 24 hours a day, for the duration of the event.

The purpose of this rule is to deter and prevent potential criminal and terrorist activity against the large gathering of people at the highly publicized U.S. Open Golf Championship. This action is necessary to ensure the safety and security of participants, spectators, and event officials at the U.S. Open Golf Championship, and will do so by prohibiting any person or vessel from entering or remaining in the security zone unless authorized by the Captain of the Port or his Designated Representative.

C. Discussion of the Temporary Final Rule

On February 11, 2015, the Coast Guard proposed to establish a temporary security zone in connection with the U.S. Open Golf Championship by publishing an NPRM in the Federal Register (80 FR 7553). The Coast Guard received no comments in response to the NPRM. As a result, the Coast Guard is establishing this temporary security zone as proposed in the NPRM without change.

This temporary final rule establishes a temporary security zone on all waters encompassed by the following points: 47°12′50″ N., 122°35′25″ W.; thence southerly to 47°11′14″ N., 122°35′50″ W.; thence easterly to the shoreline at 47°11′14″ N., 122°35′03″ W.; thence northerly along the shoreline to 47°12′49″ N., 122°34′39″ W.; thence westerly back to the point of origin.

Vessels wishing to enter the security zone must request permission for entry by contacting the Joint Harbor Operations Center at (206) 217-6001, or the on-scene patrol craft via VHF-FM Ch 13. If permission for entry is granted, vessels must proceed at a minimum speed for safe navigation.

D. Regulatory Analyses

We developed this rule after considering numerous statutes and executive orders related to rulemaking. Below we summarize our analyses based on a number of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. The rule is not a significant regulatory action because the security zone will be in place for a limited period of time and vessel traffic will be able to transit around the security zone. Maritime traffic may also request permission to transit through the zone from the Captain of the Port (COTP), Puget Sound or a Designated Representative.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities. This rule affects the following entities, some of which may be small entities: the owners and operators of vessels intending to operate in the waters covered by the security zone while it is in effect. The rule will not have a significant economic impact on a substantial number of small entities because the temporary security zone would be in place for a limited period of time and maritime traffic will be able to transit around the security zone. Maritime traffic may also request permission to transit through the zone from the COTP, Puget Sound or a Designated Representative.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that it does not have implications for federalism.

6. Protest Activities

The Coast Guard respects the First Amendment rights of protesters. Protesters are asked to contact the person listed in the FOR FURTHER INFORMATION CONTACT section above to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This rule is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA)(42 U.S.C. 4321-4370f), and have determined that this action is one of a category of actions that do not individually or cumulatively have a significant effect on the human environment. This rule involves the establishment of a temporary security zone near Chambers Bay Golf Course in South Puget Sound, University Place, WA. This rule is categorically excluded from further review under paragraph 34(g) of Figure 2-1 of the Commandant Instruction. An environmental analysis checklist supporting this determination and a Categorical Exclusion Determination are available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. Add temporary § 165.T13-281 to read as follows:

§ 165.T13.281 Security Zone; U.S. Open Golf Championship, South Puget Sound; University Place, WA.

(a) Location. This temporary security zone is established in all waters encompassed by the following points: 47°12′50″ N., 122°35′25″ W.; thence southerly to 47°11′14″ N., 122°35′50″ W.; thence easterly to the shoreline at 47°11′14″ N., 122°35′03″ W.; thence northerly along the shoreline to 47°12′49″ N., 122°34′39″ W.; thence westerly back to the point of origin.

(b) Regulations. In accordance with the general regulations in 33 CFR part 165, subpart D, no person or vessel may enter or remain in the security zone created by this section without the permission of the Captain of the Port or his Designated Representative. Designated Representatives are Coast Guard Personnel authorized by the Captain of the Port to grant persons or vessels permission to enter or remain in the security zone created by this section. See 33 CFR part 165, subpart D, for additional information and requirements. Vessels wishing to enter the zone must request permission for entry by contacting the Joint Harbor Operations Center at (206) 217-6001, or the on-scene patrol craft via VHF-FM Ch 13. If permission for entry is granted vessels must proceed at a minimum speed for safe navigation.

(c) Enforcement period. This rule will be enforced from 6 a.m. on June 14, 2015, until 11 p.m. on June 22, 2015, unless canceled sooner by the Captain of the Port.

Dated: April 22, 2015.
M.W. Raymond,
Captain, U.S. Coast Guard, Captain of the Port, Puget Sound.

[FR Doc. 2015-10488 Filed 5-4-15; 8:45 am]

BILLING CODE 9110-04-P